NATIONAL SCIENCE FOUNDATION

Advisory Committee for Engineering; Notice of Meeting

In accordance with the Federal Advisory Committee Act (Public Law 92-463, as amended) the National Science Foundation announces the following meeting.

Name: Advisory Committee for Engineering (#1170).

Date/Time: May 9, 2001/8:30 a.m.-5:30 p.m. May 10, 2001/8:30 a.m.-1 p.m.

Place: National Science Foundation, 4201 Wilson Boulevard, Arlington, VA Room 1235.

Type of Meeting: Open.

Contact Person: Dr. Elbert L. Marsh, Deputy Assistant Director for Engineering, National Science Foundation, Suite 505, 4201 Wilson Boulevard, Arlington, VA 22230; Telephone: (703) 292-4609. If you are attending the meeting and need access to the NSF building, please contact Maxine Byrd at 703-292-4601 or at mybrd@nsf.gov so that your name can be added to the building access list.

Minutes: May be obtained from the contact person listed above.

Purpose of Meeting: To provide advice, recommendations and counsel on major goals and policies pertaining to Engineering programs and activities.

Agenda: The principal focus of the forthcoming meeting will be on strategic issues, both for the Directorate and the Foundation as a whole.

Dated: April 17, 2001.
Susanne Bolton,
Committee Management Officer.

[FR Doc. 01-9851 Filed 4-19-01; 8:45 am]

BILLING CODE 7555-01-M